DEPARTMENT OF JUSTICE

Civil Division

Agency Information Collection Activities Proposed Collection; Comments Requested

ACTION: 30-day notice of information collection under review: reinstatement with change, of a previously approved collection for which approval has expired; claims under the Radiation Exposure Compensation Act.

The Department of Justice (DOJ), Civil Division has submitted the following information collection request to the Office of Management and Budget (OMB) for review and approval in accordance with the Paperwork Reduction Act of 1995. The proposed information collection is published to obtain comments from the public and affected agencies. This proposed information collection was previously published in the Federal Register on March 1, 2002, Volume 67, Number 41, Pages 9467-9468 allowing for a 60-day comment period.

The purpose of this notice is to allow for an additional 30 days for public comment until June 7, 2002. This process is conducted in accordance with 5 CFR 1320.10. Written comments and/or suggestions regarding the items contained in this notice, especially the estimated public burden and response time, should be directed to the Office of Management and Budget, Office of Information and Regulatory Affairs, Attention Department of Justice Desk Officer, Washington, DC 20503. Additionally comments may be submitted to OMB via facsimile to (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and the assumptions used;

(3) Enhance the quality, utility, and clarity of the information to be collected; and

(4) Minimize the burden of the collection of information on those who are to respond, including through the use of the appropriate automated, electronic, mechanical, or other technological collection techniques or other forms of information technology, e.g., permitting electronic submission of responses.

Overview of this information collection:

(1) Type of Information Collection: Reinstatement with change, of a previously approved collection for which approval has expired.

(2) Title of the Form/Collection: Claims Under the Radiation Exposure Compensation Act

(3) Agency form number, if any, and the applicable component of the Department of Justice sponsoring the collection: Form Number: None. Torts Branch, Civil Division, U.S. Department of Justice.

(4) Affected public who will be asked or required to respond, as well as a brief abstract: Primary: Individuals who resided near the Nevada Test Site; former uranium miners and millers; individuals formerly employed in the transport of uranium or vanadium-uranium ore; and, individuals who participated onsite in an atmospheric nuclear test. Other: None. Abstract: This form collects information to determine whether an individual is entitled to compensation under the Radiation Exposure Compensation Act, 42 U.S.C.A. section 2210 note (West Supp. 2001).

(5) An estimate of the total number of respondents and the amount of time estimated for an average respondent to respond: 3000 responses are estimated annually with an average of 2.5 hours per response.

(6) An estimation of the total public burden (in hours) associated with the collection: 7500 hours annually.

If additional information is required contact: Robert B. Briggs, Department Clearance Officer, Information Management and Security Staff, Justice Management Division, United States Department of Justice, Patrick Henry Building, Suite 1600, D. Street, NW., Washington, DC 20530.

Dated: May 1, 2002.
Robert B. Briggs,
Department Clearance Officer; Department of Justice.

[FR Doc. 02-11422 Filed 5-7-02; 8:45 am]

BILLING CODE 4410-12-M